DEPARTMENT OF HOMELAND SECURITY

Coast Guard

33 CFR Part 117

[Docket No. USCG-2016-0045]

Drawbridge Operation Regulation; Sloop Channel, Wantagh, NY

AGENCY: Coast Guard, DHS.

ACTION: Notice of deviation from drawbridge regulation.

SUMMARY: The Coast Guard has issued a temporary deviation from the operating schedule that governs the Wantagh Parkway Bridge across the Sloop Channel, mile 15.4, at Wantagh, New York. The deviation is necessary to accommodate the Jones Beach July 4th Fireworks. This deviation allows the bridge to remain in the closed position for approximately 3 hours.

DATES: This deviation is effective from 9 p.m. to midnight on July 4, 2016.

ADDRESSES: The docket for this deviation, [USCG-2016-0045] is available at http://www.regulations.gov. Type the docket number in the “SEARCH” box and click “SEARCH”. Click on Open Docket Folder on the line associated with this deviation.

FOR FURTHER INFORMATION CONTACT: If you have questions on this temporary deviation, call or email Ms. Judy K. Leung-Yee, Project Officer, First Coast Guard District, telephone (212) 514-4330, email judy.k.leung-yee@uscg.mil.

SUPPLEMENTARY INFORMATION: New York State Office of Parks, Recreation and Historic Preservation requested this temporary deviation from the normal operating schedule to accommodate the Jones Beach July 4th Fireworks.

The Wantagh Parkway Bridge, mile 15.4, across the Sloop Channel has a vertical clearance in the closed position of 16 feet at mean high water and 19.5 feet at mean low water. The existing bridge operating regulations are found at 33 CFR 117.5.

The waterway is transited by commercial and recreation vessel traffic.

Under this temporary deviation, the Wantagh Parkway Bridge may remain in the closed position from 9 p.m. to midnight on July 4, 2016.

Vessels able to pass under the bridge in the closed position may do so at anytime. The bridge will not be able to open for emergencies and there is no immediate alternate route for vessels to pass.

The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: January 22, 2016.
C.J. Bisignano,
Supervisory Bridge Management Specialist, First Coast Guard District.

[FR Doc. 2016-01719 Filed 1-29-16; 8:45 am]

BILLING CODE 9110-04-P